DEPARTMENT OF COMMERCE

Bureau of Industry and Security

Action Affecting Export Privileges; Reza Mohammed Tabib and Terri Tabib; Order Denying Export Privileges

In the Matter of: Reza Mohammed Tabib, a/k/a Reza Tabib or a/ka Re Tabib, 31848 Via Del Paso, Winchester, CA 92596, Respondent; Tern Tabib, a/k/a Tern Repic, 31848 Via Del Paso, Winchester, CA 92596, Related Person.

A. Denial of Export Privileges of Reza Mohammed Tabib

On May 8, 2007, in the U.S. District Court for the Central District of California, Reza Mohammed Tabib, a/k/a Re Tabib and a/k/a Reza Tabib (“Tabib” or “Reza Tabib”) following a plea of guilty, was convicted of violating the International Emergency Economic Powers Act (50 U.S.C. 1701-1706 (2000)) (“IEEPA”). Tabib pled guilty to willfully attempting to export and transship from the United States to Iran aircraft parts, including approximately three F-14 maintenance kits, without obtaining from the U.S. Department of the Treasury, Office of Foreign Assets Control, a license or written authorization for such export and transshipment. Tabib was sentenced to 24 months of imprisonment followed by three years of supervised release.

Section 11(h) of the Export Administration Act of 1979, as amended (currently codified at 50 U.S.C. app. 2401-2420 (2000)) (the “Act”) ¹ and Section 766.25 of the Export Administration Regulations (the “Regulations”),² provide, in pertinent part, that “[t]he Director of Exporter Services, in consultation with the Director of the Office of Export Enforcement, may deny export privileges of any person who has been convicted of a violation of * * * IEEPA,” for a period not to exceed 10 years from the date of conviction. 15 CFR 766.25(a) and (d). In addition, Section 750.8 of the Regulations states that BIS's Office of Exporter Services may revoke any BIS licenses previously issued in which the person had an interest at the time of his conviction.

¹ 50 U.S.C. app. 2401-2420. Since August 21, 2001, the Act has been in lapse and the Preident, through Executive Order 13222 of August 17, 2001 (3 CFR, 2001 Comp. 783 (2002)), as extended by the Notice of August 15, 2007 (72 FR 46137, Aug. 16, 2007), has continued the Regulations in effect under the International Emergency Economic Powers Act (50 U.S.C. 1701-1706 (2000)) (“IEEPA”).

² The Regulations are currently codified in the Code of Federal Regulations at 15 CFR Parts 730-774 (2008).

I have received notice of Tabib's conviction for violating the IEEPA, and have provided notice and an opportunity for Tabib to make a written submission to the Bureau of Industry and Security as provided in Section 766.25 of the Regulations. Having received no submission from Tabib and, following consultations with the Office of Export Enforcement, including its Director, I have decided to deny Tabib's export privileges under the Regulations for a period of five years from the date of Tabib's conviction. I have also decided to revoke all licenses issued pursuant to the Act or Regulations in which Tabib had an interest at the time of his conviction.

B. Denial of Export Privileges of Related Person

Pursuant to Sections 766.25(h) and 766.23 of the Regulations, the Director of BIS's Office of Exporter Services, in consultation with the Director of BIS's Office of Export Enforcement, may take action to name persons related to a Respondent by ownership, control, position of responsibility, affiliation, or other connection in the conduct of trade or business in order to prevent evasion of a denial order. Tern Tabib, a/k/a Tern Repic is Reza Tabib's wife and business partner. Tern Tabib pled guilty to violating 18 U.S.C. 1001 in connection with the attempted export by Reza Tabib of F-14 aircraft parts to Iran, specifically for willfully failing to file the Shipper's Export Declaration required for the export, and was placed on probation for two years. Tern Tabib is related to Reza Tabib by ownership, control, position of responsibility, affiliation, or other connection in the conduct of trade or business. BIS believes that naming Tern Tabib as a person related to Reza Tabib is necessary to avoid evasion of the denial order against Reza Tabib.

As provided in Section 766.23 of the Regulations, I gave notice to Tern Tabib that her export privileges under the Regulations could be denied for up to 10 years due to her relationship with Reza Tabib and that BIS believes naming her as a person related to Reza Tabib would be necessary to prevent evasion of a denial order imposed against Reza Tabib. In providing such notice, I gave Tern Tabib an opportunity to oppose her addition to the Reza Tabib Denial Order as a related party. Having received no submission from Tern Tabib, I have decided, following consultations with the Office of Export Enforcement, including its Director, to name Tern Tabib as a Related Person to the Reza Tabib Denial Order, thereby denying her export privileges for five years from the date of Reza Tabib's conviction.

I have also decided to revoke all licenses issued pursuant to the Act or Regulations in which the Related Person had an interest at the time of Reza Tabib's conviction. The five-year denial period will end on May 8, 2012.

Accordingly, it is hereby ordered:

I. Until May 8, 2012, Reza Mohammed Tabib, a/k/a Re Tabib and a/k/a Reza Tabib, 31848 Via Del Paso, Winchester, CA 92596, when acting for or on behalf of Tabib, his representatives, assigns, agents or employees, (“the Denied Person”) and the following person related to the Denied Person as defined by Section 766.23 of the Regulations: Tern Tabib, a/k/a Tern Repic, 31848 Via Del Paso, Winchester, CA 92596, and when acting for or on her behalf, her employees, agents or representatives, (“the Related Person”) (together, the Denied Person and the Related Person are “Persons Subject To This Order”) may not, directly or indirectly, participate in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

II. No person may, directly or indirectly, do any of the following:

A. Export or reexport to or on behalf of the Persons Subject To This Order any item subject to the Regulations;

B. Take any action that facilitates the acquisition or attempted acquisition by the Persons Subject To This Order of the ownership, possession, or control of any item subject to the Regulations that has been or will be exported from the United States, including financing or other support activities related to a transaction whereby the Persons Subject To This Order acquires or attempts to acquire such ownership, possession or control;

C. Take any action to acquire from or to facilitate the acquisition or attempted acquisition from the Persons Subject To This Order of any item subject to the Regulations that has been exported from the United States;

D. Obtain from the Persons Subject To This Order in the United States any item subject to the Regulations with knowledge or reason to know that the item will be, or is intended to be, exported from the United States; or

E. Engage in any transaction to service any item subject to the Regulations that has been or will be exported from the United States and which is owned, possessed or controlled by the Persons Subject To This Order, or service any item, of whatever origin, that is owned, possessed or controlled by the Persons Subject To This Order if such service involves the use of any item subject to the Regulations that has been or will be exported from the United States. For purposes of this paragraph, servicing means installation, maintenance, repair, modification or testing.

III. In addition to the Related Person named above, after notice and opportunity for comment as provided in section 76623 of the Regulations, any other person, firm, corporation, or business organization related to the Denied Person by affiliation, ownership, control, or position of responsibility in the conduct of trade or related services may also be made subject to the provisions of this Order if necessary to prevent evasion of the Order.

IV. This Order does not prohibit any export, reexport, or other transaction subject to the Regulations where the only items involved that are subject to the Regulations are the foreign produced direct product of U.S.-origin technology.

V. This Order is effective immediately and shall remain in effect until May 8, 2012.

VI. In accordance with Part 756 of the Regulations, Reza Tabib may file an appeal of this Order with the Under Secretary of Commerce for Industry and Security. The appeal must be filed within 45 days from the date of this Order and must comply with the provisions of Part 756 of the Regulations.

VII. In accordance with Part 756 of the Regulations, the Related Person may also file an appeal of this Order with the Under Secretary of Commerce for Industry and Security.

VIII. A copy of this Order shall be delivered to the Denied Person and the Related Person. This Order shall be published in the Federal Register.

Dated: June 23, 2008.
Eileen M. Albanese,
Director, Office of Exporter Services.

[FR Doc. E8-15306 Filed 7-7-08; 8:45 am]

BILLING CODE 3510-DT-M